DEPARTMENT OF THE INTERIOR

Performance Review Board Appointments

AGENCY: Department of the Interior.

ACTION: Notice of SES Performance Review Board Appointments.

SUMMARY: This notice provides the names of individuals who have been appointed to serve as members of the Department of the Interior SES Performance Review Board.

DATES: These appointments are effective upon publication in the Federal Register.

FOR FURTHER INFORMATION CONTACT: Thomas Mulhern, Director, Office of Human Resources, Office of the Secretary, Department of the Interior, 1849 C Street NW., Washington, DC 20240, Telephone Number: (202) 208-6761.

The members of the Department of the Interior SES Performance Review Board are as follows:

Name:

Adams, Gail

Anderson, Allyson

Andrew, Jonathan

Atkinson, Karen

Bathrick, Mark

Bean, Michael

Beaudreau, Tommy

Beck, Richard

Belin, Alletta

Berrigan, Michael

Black, Michael

Black, Steven

Blanchard, Mary Josie

Bolton, Hannibal

Burden, John

Burzyk, Carla

Carter-Pfisterer, Carole

Clement, Joel

Cruickshank, Walter

Cruzan, Darren

Davis, Mark

Ditmanson, Dale

Dohner, Cynthia

Eller, Sharon

Ellis, Steven

Estenoz, Shannon

Faeth, Lorraine

Farquhar, Ned

Caramanian, Lori

Ferriter, Olivia

Flanagan, Denise

Frazer, Gary

Frost, Herbert

Gibbs Tschudy, Deborah

Gidner, Jerold

Glenn, Douglas

Gonzales-Schreiner, Roseann

Gould, Gregory

Graziano, Angela

Gross, Lawrence

Gunderson, Linda

Haugrud, Kevin

Hawbecker, Karen

Ishee, Mary Katherine

Iudicello, Fay

Jackson, Andrew

Keable, Edward

Kelly, Katherine

Kimball, Suzette

Kinsinger, Anne

Koenigsberg, Melissa

Kornze, Neil

Laverdure, Donald

Lee, Lorri

Malam, Pamela

Mansour, Christopher

Masica, Sue

More, Robert

Moss, Adrianne

Nedd, Michael

O'Dell, Margaret

Orr, Renee

Payne, Grayford

Pula, Nikolao

Quint, Robert

Reidenbach, Dennis

Reynolds, Michael

Rice, Bryan

Roberson, Edwin

Rountree, Carl

Russ, David

Salotti, Christopher

Schneider, Margaret

Sheaffer, C. Bruce

Sholly, Cameron

Sobeck, Eileen

Stevens, Elizabeth

Suazo, Raymond

Taylor, Ione

Taylor, Willie

Thompson, Thomas

Thornhill, Alan

Thorson, Robyn

Toothman, Stephanie

Tuggle, Benjamin

Vela, David

Velasco, Janine

Ward, Joseph

Weber, Wendi

Welch, Ruth

Wells, Sandra

Wenk, Daniel

Wessels, John

Wheeler, Kathleen

Williams, Martha

Williams, L.C.

Woody, William

Dated: October 27, 2012.
Thomas Mulhern,
Director, Human Resources.

[FR Doc. 2012-27316 Filed 11-7-12; 8:45 am]

BILLING CODE 4310-RK-P